DEPARTMENT OF ENERGY

Federal Energy Regulatory Commission

[Docket No. ER01-2726-000]

Big Sandy Peaker Plant, LLC; Notice of Filing

August 3, 2001.

Take notice that on July 30, 2001, Big Sandy Peaker Plant, LLC (Big Sandy) tendered for filing an umbrella service agreement for short-term power sales by Big Sandy to Constellation Power Source, Inc.

Big Sandy requests that the agreement become effective on June 7, 2001.

Any person desiring to be heard or to protest such filing should file a motion intervene or protest with the Federal Energy Regulatory Commission, 888 First Street, NE., Washington, DC 20426, in accordance with Rules 211 and 214 of the Commission's Rules of Practice and Procedure (18 CFR 385.211 and 385.214). All such motions and protests should be filed on or before August 20, 2001. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20085 Filed 8-9-01; 8:45 am]

BILLING CODE 6717-01-M